DEPARTMENT OF COMMERCE

National Oceanic and Atmospheric Administration

[RTID 0648-XA850]

South Atlantic Fishery Management Council; Public Meeting; Correction

AGENCY: National Marine Fisheries Service (NMFS), National Oceanic and Atmospheric Administration (NOAA), Commerce.

ACTION: Notice of correction of a public meeting.

SUMMARY: The South Atlantic Fishery Management Council (Council) will hold meetings of the following: Law Enforcement Committee; Habitat and Ecosystem-Based Management Committee, Mackerel Cobia Committee, Snapper Grouper Committee; Dolphin Wahoo Committee; Southeast Data, Assessment and Review (SEDAR) Committee (partially Closed Session); and Executive Committee. The meeting week will also include a formal public comment session and a meeting of the Full Council. Due to public health concerns associated with COVID-19 and current travel restrictions the meeting will be held via webinar.

DATES: The Council meeting will be held from 12:30 p.m. on Monday, March 1, 2021 until 12 p.m. on Friday, March 5, 2021.

ADDRESSES: Meeting address: The meeting will be held via webinar.

FOR FURTHER INFORMATION CONTACT: Kim Iverson, Public Information Officer, SAFMC; phone: (843) 302-8440 or toll free: (866) SAFMC-10; fax: (843) 769-4520; email: kim.iverson@safmc.net.

SUPPLEMENTARY INFORMATION: This notice serves as a correction to a notice that published in the Federal Register on February 3, 2021 (86 FR 7992). Under SUPPLEMENTARY INFORMATION, the following agenda item has changed: SEDAR Committee, Thursday, March 4, 2021, 8:30 a.m. until 10:30 a.m. (Partially Closed Session).

The Committee will make appointments for the SEDAR 79 stock assessment for mutton snapper during Closed Session. In Open Session, the Committee will approve terms of reference for SEDAR 79 and will receive updates on SEDAR 79 and SEDAR 76 stock assessment for South Atlantic black sea bass.

All other previously-published information remains unchanged.

(Authority: 16 U.S.C. 1801 et seq.)

Dated: February 3, 2021.
Tracey L. Thompson,
Acting Deputy Director, Office of Sustainable Fisheries, National Marine Fisheries Service.

[FR Doc. 2021-02604 Filed 2-8-21; 8:45 am]

BILLING CODE 3510-22-P